DEPARTMENT OF HEALTH AND HUMAN SERVICES

National Institutes of Health

National Cancer Institute Amended Notice of Meeting

Notice is hereby given of a change in the meeting of the National Cancer Institute Board of Scientific Advisors, March 25, 2019, 8:00 a.m. to March 26, 2019, 12:00 p.m., National Cancer Institute Shady Grove, Shady Grove, 9609 Medical Center Drive, Rockville, MD, 20850 which was published in the Federal Register on February 11, 2019, 84 FR 3200.

This meeting notice is amended to change from a two-day meeting to a one-day meeting. The meeting will now be held on March 25, 2019 from 9:00 a.m. to 5:30 p.m. The meeting is open to the public.

Dated: March 13, 2019.
Melanie J. Pantoja,
Program Analyst, Office of Federal Advisory Committee Policy.

[FR Doc. 2019-05064 Filed 3-18-19; 8:45 am]

BILLING CODE 4140-01-P